SMALL BUSINESS ADMINISTRATION

Data Collection Available for Public Comments

ACTION: 60-Day notice and request for comments.

SUMMARY: In accordance with the Paperwork Reduction Act of 1995, this notice announces the Small Business Administration's intentions to request approval on a new and/or currently approved information collection.

DATES: Submit comments on or before February 16, 2021.

ADDRESSES: Send all comments regarding whether these information collections are necessary for the proper performance of the function of the agency, whether the burden estimates are accurate, and if there are ways to minimize the estimated burden and enhance the quality of the collections, to Louis Cupp, New Markets Policy Analyst, Office of Investment and Innovation, Small Business Administration.

FOR FURTHER INFORMATION CONTACT:

Louis Cupp, New Markets Policy Analyst, Office of Investment and Innovation, 202-619-0511

Curtis B. Rich, Management Analyst, 202-205-7030, curtis.rich@sba.gov

SUPPLEMENTARY INFORMATION: To obtain the information needed to carry out its program evaluation and oversight responsibilities. SBA requires small business investment companies (SBIC'S) to provide information on SBA Form 1031 each time financing is extended to a small business concern. SBA uses this information to evaluate how SBIC'S fill market financing gaps and contribute to economic growth, and to monitor the regulatory compliance of individual SBIC'S.

Title: “Portfolio Financial Reports”.

Description of Respondents: Small Business Investment Companies.

Form Number: 1031.

Annual Responses: 2,695.

Annual Burden: 728.

Curtis Rich,
Management Analyst.

[FR Doc. 2020-27805 Filed 12-16-20; 8:45 am]

BILLING CODE 8026-03-P